BUREAU OF LAND MANAGEMENT

[LLNV912. L12100000.PH0000 LXSS006F0000 261A; 14-08807; MO #4500082778]

Sierra Front-Northwest Great Basin Resource Advisory Council

AGENCY: Bureau of Land Management, Interior.

Title: Notice of Public Meetings: Sierra Front-Northwestern Great Basin Resource Advisory Council, Nevada: Correction

ACTION: Notice; Correction.

SUMMARY: The Bureau of Land Management published a notice in the Federal Register on August 7, 2015, (80 FR 47515) in the first column, stating the intent to hold a Federal Advisory Committee, (FACA) meeting of the Sierra Front-Northwest Great Basin Resource Advisory Council. The official FACA meeting scheduled in Winnemucca, Nevada on September 17-18, 2015, at the BLM Winnemucca BLM District Office (5100 East Winnemucca Blvd.) has an additional agenda item regarding a Forest Service recreation fee proposal.

DATES: September 17 and September 18. Approximate meeting times are from 8 a.m. to 4 p.m.

ADDRESSES: Winnemucca BLM District Office, 5100 East Winnemucca Blvd., Winnemucca, Nevada 89445; Phone: 775-623-1500.

FOR FURTHER INFORMATION CONTACT: Lisa Ross, Public Affairs Specialist, Carson City District Office, 5665 Morgan Mill Road, Carson City, NV 89701, telephone: (775) 885-6107, email: lross@blm.gov.

Individuals who use telecommunication devices for the deaf (TDD) may call the Federal Information Relay Service (FIRS) at 1-800-877-8339 between 8:00 a.m. and 8:00 p.m., during normal business hours.

Correction

In the Federal Register of August 7, 2015, in FR Vol. 80, No. 152 on page 47515 in the first column, Topics for discussion, add:

• Recreation fee proposal regarding Christmas tree permits for the Humboldt-Toiyabe National Forest

Stephen D. Clutter,
Chief of Communications, BLM Nevada State Office.

[FR Doc. 2015-20668 Filed 8-20-15; 8:45 am]

BILLING CODE P